DEPARTMENT OF COMMERCE

National Oceanic and Atmospheric Administration

[I.D. 100802C]

Endangered Species; File No. 1346

AGENCY: National Marine Fisheries Service (NMFS), National Oceanic and Atmospheric Administration (NOAA), Commerce.

ACTION: Receipt of application for modification.

SUMMARY: Notice is hereby given that Thomas B. McCormick, Channel Islands Marine Resource Institute (CIMRI), P.O. Box 1627, Port Hueneme, California 93044, has requested a modification to scientific research and enhancement Permit No. 1346.

DATES: Written or telefaxed comments must be received on or before November 20, 2002.

ADDRESSES: The modification request and related documents are available for review upon written request or by appointment in the following offices:

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Jennifer Skidmore or Trevor Spradlin, (301)713-2289.

SUPPLEMENTARY INFORMATION: The subject modification to Permit No. 1346, issued on May 17, 2002 (67 FR 36158), is requested under the authority of the Endangered Species Act of 1973, as amended (16 U.S.C. 1531 et seq.) and the regulations governing the taking, importing, and exporting of endangered and threatened species (50 CFR 222-226).

Permit No. 1346 authorizes the permit holder to captively maintain bred white abalone for scientific research and enhancement at the CIMRI hatchery. Research activities include feeding studies, propagation studies and studies identified as goals for the long-term recovery of the white abalone. The permit holder requests authorization to collect 20 white abalone per year off of the southern California coast. These animals will then be propagated, treated for wounds, tagged and inoculated against withering syndrome. The progeny of these animals will have the same treatments and be subjects of the studies mentioned above as well as behavioral studies. In accordance with recommendations from the recovery team, the permit holder will also place these animals back into their natural habitat. The permit holder is expecting mortalities of 9.3 million per year for early juveniles, 15,000 per year for juveniles and adults and 134,000 in 2002 to reduce stock due to space limitations.

In compliance with the National Environmental Policy Act of 1969 (42 U.S.C. 4321 et seq.), an initial determination has been made that the activity proposed is categorically excluded from the requirement to prepare an environmental assessment or environmental impact statement.

Dated: October 15, 2002.
Eugene T. Nitta,
Acting Chief, Permits, Conservation and Education Division, Office of Protected Resources, National Marine Fisheries Service.

[FR Doc. 02-26695 Filed 10-18-02; 8:45 am]

BILLING CODE 3510-22-S